DEPARTMENT OF HEALTH AND HUMAN SERVICES

Food and Drug Administration

[Docket No. FDA-2022-D-0278]

Action Levels for Lead in Processed Food Intended for Babies and Young Children; Guidance for Industry; Availability; Correction

AGENCY: Food and Drug Administration, Health and Human Services.

ACTION: Notice of availability; correction.

SUMMARY: The Food and Drug Administration (FDA) is correcting a notice of availability that appeared in the Federal Register on January 7, 2025. The document announced the availability of a final guidance for industry entitled “Action Levels for Lead in Processed Food Intended for Babies and Young Children.” The notice published with an error in the Background section. This document corrects the error.

FOR FURTHER INFORMATION CONTACT: Holli Kubicki, Office of Policy, Regulations, and Information, Human Foods Program, Food and Drug Administration, 5001 Campus Dr., College Park, MD 20740, 240-402-2378.

SUPPLEMENTARY INFORMATION: In the Federal Register of Tuesday, January 7, 2025 (90 FR 1135), in FR Doc. 2024-31534, on page 1136, in the first column, in the first sentence of the second paragraph, the parenthetical citation for the January 25, 2023, Federal Register is corrected to read “(88 FR 4797).”

Dated: April 14, 2025.
Grace R. Graham,
Deputy Commissioner for Policy, Legislation, and International Affairs.

[FR Doc. 2025-06786 Filed 4-18-25; 8:45 am]

BILLING CODE 4164-01-P